DEPARTMENT OF ENERGY

[Docket No. 25-143-LNG]

Plaquemines Expansion, LLC; Application for Long-Term Authorization To Export Liquefied Natural Gas to Non-Free Trade Agreement Nations

AGENCY: Office of Fossil Energy and Carbon Management, Department of Energy.

ACTION: Notice of application.

SUMMARY: The Office of Fossil Energy and Carbon Management (FECM) of the Department of Energy (DOE) gives notice (Notice) of receipt of an application (Application), filed by Plaquemines Expansion, LLC (Plaquemines Expansion) on November 17, 2025. Plaquemines Expansion requests long-term, multi-contract authorization to export domestically produced liquefied natural gas (LNG) in a volume equivalent to approximately 1,624.25 billion cubic feet (Bcf) of natural gas per year (Bcf/yr). Plaquemines Expansion seeks to export this LNG from the Plaquemines LNG Terminal (Plaquemines Terminal), constructed and operated by its affiliate Venture Global Plaquemines LNG, LLC (Plaquemines LNG) in Plaquemines Parish, Louisiana, including the LNG loading berth to be constructed as part of the proposed Plaquemines Expansion Project (Expansion Project). Plaquemines Expansion filed the Application under the Natural Gas Act (NGA).

DATES: Protests, motions to intervene, or notices of intervention, as applicable, and written comments are to be filed electronically as detailed in the Public Comment Procedures section no later than 4:30 p.m., Eastern time, February 13, 2026.

ADDRESSES:

Electronic Filing by email (Strongly encouraged): fergas@hq.doe.gov.

Postal Mail, Hand Delivery, or Private Delivery Services (e.g., FedEx, UPS, etc.) U.S. Department of Energy (FE-34), Office of Regulation, Analysis, and Engagement, Office of Fossil Energy and Carbon Management, Forrestal Building, Room 3E-056, 1000 Independence Avenue SW, Washington, DC 20585.

Due to potential delays in DOE's receipt and processing of mail sent through the U.S. Postal Service, we encourage respondents to submit filings electronically to ensure timely receipt.

FOR FURTHER INFORMATION CONTACT:

Jennifer Wade or Peri Ulrey, U.S. Department of Energy (FE-34) Office of Regulation, Analysis, and Engagement, Office of Resource Sustainability, Office of Fossil Energy and Carbon Management, Forrestal Building, Room 3E-042, 1000 Independence Avenue SW, Washington, DC 20585, (202) 586-4749 or (202) 586-7893, jennifer.wade@hq.doe.gov or peri.ulrey@hq.doe.gov.

Cassandra Bernstein, U.S. Department of Energy (GC-76) Office of the Assistant General Counsel for Energy Delivery and Resilience, Forrestal Building, Room 6D-033, 1000 Independence Avenue SW, Washington, DC 20585, (240) 780-1691, cassandra.bernstein@hq.doe.gov.

SUPPLEMENTARY INFORMATION: Plaquemines Expansion requests authorization to export additional domestically produced LNG in a volume up to 31 million metric tons per annum (mtpa), which it states is equivalent to 1,624.25 Bcf/yr of natural gas, by ocean-going vessel from the Plaquemines Terminal and the Expansion Project.¹ The proposed Expansion Project will be constructed and located on an approximately 587-acre site on the west bank of the Mississippi River immediately adjacent to the site on which the existing Plaquemines Terminal is located in Plaquemines Parish, Louisiana. Plaquemines Expansion states that the Expansion Project will be interconnected with and utilize certain facilities of the Plaquemines Terminal, and will include new liquefaction facilities and other major facilities to support the incremental LNG export operations.

¹ Plaquemines Expansion states that DOE previously has authorized Plaquemines LNG to export LNG from the Plaquemines Terminal in Docket No. 16-28-LNG. Plaquemines Expansion provides additional detail about the Plaquemines Terminal, as currently authorized by the Federal Energy Regulatory Commission (FERC), and states that, contemporaneously with the filing of the Application in this proceeding, Plaquemines Expansion and Plaquemines LNG filed with FERC a joint application pursuant to NGA section 3 for authorization of the siting, construction, and operation of the Expansion Project.

Plaquemines Expansion requests authorization to export the LNG to: (i) any nation with which the United States has entered into a free trade agreement (FTA) requiring national treatment for trade in natural gas (FTA nations), and (ii) any other nation with which trade is not prohibited by U.S. law or policy (non-FTA nations). This Notice applies only to the portion of the Application requesting authority to export LNG to non-FTA countries pursuant to section 3(a) of the NGA.² DOE will review Plaquemines Expansion's request for authorization to export LNG to FTA countries separately pursuant to NGA section 3(c).³

² 15 U.S.C. 717b(a).

³ Id. 717b(c).

Plaquemines Expansion seeks this authorization on its own behalf and as agent for other entities that will hold title to the LNG at the time of export. Plaquemines Expansion requests the authorization for a term of 20 years “commencing on the earlier of the date of first export or seven years from the date the requested authorization is granted by DOE/FECM,” ⁴ plus a three-year Make-Up period at the end of that term consistent with recent DOE practice.⁵

⁴ Plaquemines Expansion, LLC, Application for Authorizations to Export Liquefied Natural Gas to Free Trade and Non-Free Trade Agreement Nations, Docket No. 25-143-LNG, at 14 (Nov. 17, 2025) [hereinafter App.].

⁵ Plaquemines Expansion emphasizes that, due to the circumstances of its proposed Expansion Project, it is not requesting DOE's “generally applicable term through December 31, 2050,” as set forth in DOE's 2050 Policy Statement, but rather is requesting a “term of 20 years after the start of commercial exports under the requested authorization,” as well as the three-year Make-Up Period. App. at 17; see also id. at 3.

Additional details can be found in Plaquemines Expansion's Application, posted on the DOE website at https://www.energy.gov/fecm/articles/plaquemines-expansion-llc-plaquemines-expansion-fecm-docket-no-25-143-lng.

DOE Evaluation

In reviewing the Application, DOE will consider any issues required by law or policy under NGA section 3(a), DOE's regulations, and any other documents deemed appropriate.

Parties that may oppose the Application should address these issues and documents in their comments and/or protests, as well as other issues deemed relevant to the Application.

The National Environmental Policy Act (NEPA), 42 U.S.C. 4321 et seq., requires DOE to give appropriate consideration to the environmental effects of its proposed decisions. No final decision will be issued in this proceeding until DOE has met its NEPA responsibilities.

Public Comment Procedures

In response to this Notice, any person may file a protest, comments, or a motion to intervene or notice of intervention, as applicable, addressing the Application. Interested parties will be provided 60 days from the date of publication of this Notice in the Federal Register in which to submit comments, protests, motions to intervene, or notices of intervention.

Any person wishing to become a party to this proceeding evaluating the Application must file a motion to intervene or notice of intervention.⁶ The filing of comments or a protest with respect to the Application will not serve to make the commenter or protestant a party to this proceeding, although protests and comments received from persons who are not parties will be considered in determining the appropriate action to be taken on the Application. All protests, comments, motions to intervene, or notices of intervention must meet the requirements specified by DOE's regulations in 10 CFR part 590, including the service requirements.

⁶ 10 CFR 590.303.

Filings may be submitted using one of the following methods:

(1) Submitting the filing electronically at fergas@hq.doe.gov;

(2) Mailing the filing to the Office of Regulation, Analysis, and Engagement at the address listed in the ADDRESSES section; or

(3) Hand delivering the filing to the Office of Regulation, Analysis, and Engagement at the address listed in the ADDRESSES section.

For administrative efficiency, DOE prefers filings to be filed electronically. All filings must include a reference to “Docket No. 25-143-LNG” or “Plaquemines Expansion Application” in the title line. Filings must be submitted in English to be considered.⁷

⁷ Executive Order 14224 of March 1, 2025, Designating English as the Official Language of the United States, 90 FR 11363 (Mar. 6, 2025).

For electronic submissions: Please include all related documents and attachments (e.g., exhibits) in the original email correspondence. Please do not include any active hyperlinks or password protection in any of the documents or attachments related to the filing. All electronic filings submitted to DOE must follow these guidelines to ensure that all documents are filed in a timely manner.

The Application, and any filed protests, motions to intervene, notices of intervention, and comments will be available electronically on the DOE website at www.energy.gov/fecm/regulation.

A decisional record on the Application will be developed through responses to this Notice by parties, including the parties' written comments and replies thereto. Additional procedures will be used as necessary to achieve a complete understanding of the facts and issues. If an additional procedure is scheduled, notice will be provided to all parties. If no party requests additional procedures, a final Order may be issued based on the official record, including the Application and responses filed by parties pursuant to this Notice, in accordance with 10 CFR 590.316.

Signed in Washington, DC, on December 10, 2025.
Amy Sweeney,
Director, Office of Regulation, Analysis, and Engagement, Office of Resource Sustainability.

[FR Doc. 2025-22816 Filed 12-12-25; 8:45 am]

BILLING CODE 6450-01-P